DEPARTMENT OF COMMERCE

National Oceanic and Atmospheric Administration

RIN 0648-XS00

Endangered and Threatened Species; Recovery Plans; Recovery Plan for the Kemp's Ridley Sea Turtle

AGENCY: National Marine Fisheries Service (NMFS), National Oceanic and Atmospheric Administration (NOAA), Commerce; Fish and Wildlife Service (USFWS), Interior.

ACTION: Notice of availability.

SUMMARY: We, NMFS and USFWS, announce the availability of the Bi-National Recovery Plan (Recovery Plan) for the Kemp's Ridley Sea Turtle (Lepidochelys kempii). The Recovery Plan is a bi-national plan developed by the NMFS and USFWS and the Secretary of Environment and Natural Resources, Mexico. The revised Recovery Plan includes specific recovery objectives and criteria to be met in order to down and delist this species under the Endangered Species Act of 1973, as amended.

ADDRESSES: The Bi-National Recovery Plan for the Kemp's Ridley Sea Turtle (Lepidochelys kempii) is available on the Internet at http://www.nmfs.noaa.gov/pr/recovery/plans.htm or http://www.fws.gov/kempsridley/. Copies also may be obtained by contacting NMFS Office of Protected Resources 1315 East-West Highway, Room 13535, Silver Spring, MD 20910 or USFWS 6300 Ocean Drive, Unit 5837, Corpus Christi, TX 78412.

FOR FURTHER INFORMATION CONTACT: Therese Conant (ph. 301-427-8456, fax 301-713-0376) or Tom Shearer (ph. 361-994-9005, fax 361-994-8626).

SUPPLEMENTARY INFORMATION:

Availability of the Recovery Plan

Interested persons may obtain the Recovery Plan for review on the Internet at http://www.nmfs.noaa.gov/pr/recovery/plans.htm or http://www.fws.gov/kempsridley/ or by contacting Therese Conant or Tom Shearer [see FOR FURTHER INFORMATION CONTACT.]

Background

The Endangered Species Act of 1973 (15 U.S.C. 1531 et seq.) requires that NMFS and USFWS develop and implement recovery plans for the conservation and survival of threatened and endangered species under their jurisdiction, unless it is determined that such plans would not promote the conservation of the species. This Recovery Plan discusses the natural history, current status, and the known and potential threats to the Kemp's ridley. The Recovery Plan lays out a recovery strategy to address the potential threats based on the best available science and includes recovery goals and criteria. The Recovery Plan is not a regulatory action, but presents guidance for use by agencies and interested parties to assist in the recovery of Kemp's ridley turtles. The Recovery Plan identifies substantive actions needed to achieve recovery by addressing the threats to the species. Recovery of Kemp's ridleys has and will continue to be a long-term effort between the U.S. and Mexico and will require cooperation and coordination of Federal, state, local government agencies and nongovernment organizations.

Authority: 16 U.S.C. 1531 et seq.

Dated: September 14, 2011.
Angela Somma,
Chief, Endangered Species Division, Office of Protected Resources, National Marine Fisheries Service.

[FR Doc. 2011-24386 Filed 9-21-11; 8:45 am]

BILLING CODE 3510-22-P